LEGAL SERVICES CORPORATION

Sunshine Act Meeting of the Board of Directors

Time and Date: The Board of Directors of the Legal Services Corporation will meet on May 23, 2002 via conference call. The meeting will begin at 2 p.m. and continue until conclusion of the Board's agenda.

Location: 750 First Street, NE, 11th Floor, Washington, DC 20002, in Room 11026.

Status of Meeting: Open.

Matters to be Considered: 1. Approval of the agenda.

2. Consider and act on Board of Directors' Semiannual Report to Congress for the period of October 1, 2001 through March 31, 2002.

3. Consider and act on other business.

4. Public comment.

Contact Person for Information: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth Cushing, at (202) 336-8800.

Dated: May 16, 2002.
Victor M. Fortuno,
Vice President for Legal Affairs, General Counsel & Corporate Secretary.

[FR Doc. 02-12731 Filed 5-16-02; 3:52 pm]

BILLING CODE 7050-01-P